DEPARTMENT OF ENERGY

Federal Energy Regulatory Commission

Combined Notice of Filings #2

Take notice that the Commission received the following electric corporate filings:

Docket Numbers: EC13-39-000.

Applicants: Public Service Company of New Mexico.

Description: Application of Public Service Company of New Mexico for Approval of Acquisition of Jurisdictional Facilities under Section 203 of the Federal Power Act.

Filed Date: 11/14/12.

Accession Number: 20121114-5187.

Comments Due: 5 p.m. ET 12/5/12.

Docket Numbers: EC13-40-000.

Applicants: Spearville 3, LLC.

Description: Application for Approval under Section 203 of the Federal Power Act and Requests for Expedited Consideration and Confidential Treatment of Spearville 3, LLC.

Filed Date: 11/14/12.

Accession Number: 20121114-5188.

Comments Due: 5 p.m. ET 12/5/12.

Docket Numbers: EC13-41-000.

Applicants: Florida Power Corporation.

Description: Application for Authorization Under Section 203 of the Federal Power Act of Florida Power Corporation.

Filed Date: 11/15/12.

Accession Number: 20121115-5143.

Comments Due: 5 p.m. ET 12/6/12.

Take notice that the Commission received the following electric rate filings:

Docket Numbers: ER11-4628-000.

Applicants: PJM Interconnection, L.L.C.

Description: Compliance Filing of PJM Interconnection, L.L.C.

Filed Date: 11/14/12.

Accession Number: 20121114-5153.

Comments Due: 5 p.m. ET 12/5/12.

Docket Numbers: ER11-4628-001.

Applicants: PJM Interconnection, L.L.C.

Description: Compliance Filing of PJM Interconnection, L.L.C.

Filed Date: 11/14/12.

Accession Number: 20121114-5153.

Comments Due: 5 p.m. ET 12/5/12.

Docket Numbers: ER11-4628-002.

Applicants: PJM Interconnection, L.L.C.

Description: Compliance Filing of PJM Interconnection, L.L.C.

Filed Date: 11/14/12.

Accession Number: 20121114-5153.

Comments Due: 5 p.m. ET 12/5/12.

Docket Numbers: ER11-4628-003.

Applicants: PJM Interconnection, L.L.C.

Description: Compliance Filing of PJM Interconnection, L.L.C.

Filed Date: 11/14/12.

Accession Number: 20121114-5153.

Comments Due: 5 p.m. ET 12/5/12.

Docket Numbers: ER11-4628-004.

Applicants: PJM Interconnection, L.L.C.

Description: Compliance Filing of PJM Interconnection, L.L.C.

Filed Date: 11/14/12.

Accession Number: 20121114-5153.

Comments Due: 5 p.m. ET 12/5/12.

Docket Numbers: ER11-4628-005.

Applicants: PJM Interconnection, L.L.C.

Description: Compliance Filing of PJM Interconnection, L.L.C.

Filed Date: 11/14/12.

Accession Number: 20121114-5153.

Comments Due: 5 p.m. ET 12/5/12.

Docket Numbers: ER11-4628-006.

Applicants: PJM Interconnection, L.L.C.

Description: Compliance Filing of PJM Interconnection, L.L.C.

Filed Date: 11/14/12.

Accession Number: 20121114-5153.

Comments Due: 5 p.m. ET 12/5/12.

Docket Numbers: ER12-2658-001.

Applicants: Pacific Gas and Electric Company.

Description: Tridam Project—Tulloch Powerhouse LGIA Compliance Filing to be effective 3/31/2012.

Filed Date: 11/15/12.

Accession Number: 20121115-5104.

Comments Due: 5 p.m. ET 12/6/12.

Docket Numbers: ER13-354-001.

Applicants: QC Power Strategies Fund LLC.

Description: QCP Initial Tariff to be effective 11/15/2012.

Filed Date: 11/15/12.

Accession Number: 20121115-5055.

Comments Due: 5 p.m. ET 12/6/12.

Docket Numbers: ER13-380-000.

Applicants: Sierra Pacific Power Company.

Description: Rate Schedule No. 27—Annual BPA-GTA Update 2012 to be effective 10/31/2012.

Filed Date: 11/15/12.

Accession Number: 20121115-5007.

Comments Due: 5 p.m. ET 12/6/12.

Docket Numbers: ER13-381-000.

Applicants: Southern California Edison Company.

Description: Letter Agreement SCE-Victorville 33kV Project to be effective 1/15/2013.

Filed Date: 11/15/12.

Accession Number: 20121115-5075.

Comments Due: 5 p.m. ET 12/6/12.

Docket Numbers: ER13-382-000.

Applicants: Southwest Power Pool, Inc.

Description: 2234R2 Osage Wind/PSO Facilities Construction Agreement to be effective 10/18/2012.

Filed Date: 11/15/12.

Accession Number: 20121115-5088.

Comments Due: 5 p.m. ET 12/6/12.

Docket Numbers: ER13-383-000.

Applicants: Alcoa Power Generating Inc.

Description: Tapoco Cancellation to be effective 11/15/2012.

Filed Date: 11/15/12.

Accession Number: 20121115-5096.

Comments Due: 5 p.m. ET 12/6/12.

Docket Numbers: ER13-384-000.

Applicants: Alcoa Power Generating Inc.

Description: Cancellation of TVA Interconnection Agreement Filed in ER11-4059 to be effective 11/15/2012.

Filed Date: 11/15/12.

Accession Number: 20121115-5097.

Comments Due: 5 p.m. ET 12/6/12.

Docket Numbers: ER13-385-000.

Applicants: Wabash Valley Power Association, Inc.

Description: Amendments to Formulary Rate Tariff—Rate Schedule EDR-7 to be effective 1/15/2013.

Filed Date: 11/15/12.

Accession Number: 20121115-5098.

Comments Due: 5 p.m. ET 12/6/12.

Docket Numbers: ER13-386-000.

Applicants: Southwest Power Pool, Inc.

Description: 2490 Steele Flats Wind Project, LLC GIA to be effective 10/30/2012.

Filed Date: 11/15/12.

Accession Number: 20121115-5114.

Comments Due: 5 p.m. ET 12/6/12.

Docket Numbers: ER13-387-000.

Applicants: Alcoa Power Generating Inc.

Description: Alcoa Power Generating Inc. submits Notice of Cancellation of Electric Rate Schedules FERC Nos. 17 and 19.

Filed Date: 11/15/12.

Accession Number: 20121115-5117.

Comments Due: 5 p.m. ET 12/6/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2012.
Nathaniel J. Davis, Sr.,
Deputy Secretary.

[FR Doc. 2012-28405 Filed 11-21-12; 8:45 am]

BILLING CODE 6717-01-P